DEPARTMENT OF COMMERCE

International Trade Administration

[A-549-821]

Polyethylene Retail Carrier Bags From Thailand: Final Results of Antidumping Duty Administrative Review; 2011-2012

AGENCY: Import Administration, International Trade Administration, Department of Commerce.

SUMMARY: On May 14, 2013, the Department of Commerce (the Department) published the preliminary results of the administrative review of the antidumping duty order on polyethylene retail carrier bags (PRCBs) from Thailand. The period of review (POR) is August 1, 2011, through July 31, 2012. For the final results we continue to find that Trinity Pac Co. Ltd. (Trinity Pac) has sold subject merchandise at less than normal value and that TPN FlexPak Co., Ltd. (TPN) had no shipments during the POR.

DATES: Effective Date: August 19, 2013.

FOR FURTHER INFORMATION CONTACT: Dmitry Vladimirov or Minoo Hatten, AD/CVD Operations, Office 1, Import Administration, International Trade Administration, U.S. Department of Commerce, 14th Street and Constitution Avenue NW., Washington, DC 20230; telephone: (202) 482-0665, and (202) 482-1690, respectively.

SUPPLEMENTARY INFORMATION:

Background

On May 14, 2013, the Department published the preliminary results of the administrative review of the antidumping duty order on PRCBs from Thailand.¹ We invited interested parties to comment on the Preliminary Results. We received no comments.

¹ See Polyethylene Retail Carrier Bags from Thailand: Preliminary Results of Antidumping Duty Administrative Review; 2011-2012, 78 FR 28192 (May 14, 2013) (Preliminary Results).

The Department has conducted this administrative review in accordance with section 751(a) of the Tariff Act of 1930, as amended (the Act).

Scope of the Order

The merchandise subject to the antidumping duty order is PRCBs, which may be referred to as t-shirt sacks, merchandise bags, grocery bags, or checkout bags. The subject merchandise is defined as non-sealable sacks and bags with handles (including drawstrings), without zippers or integral extruded closures, with or without gussets, with or without printing, of polyethylene film having a thickness no greater than 0.035 inch (0.889 mm) and no less than 0.00035 inch (0.00889 mm), and with no length or width shorter than 6 inches (15.24 cm) or longer than 40 inches (101.6 cm). The depth of the bag may be shorter than 6 inches but not longer than 40 inches (101.6 cm).

PRCBs are typically provided without any consumer packaging and free of charge by retail establishments, e.g., grocery, drug, convenience, department, specialty retail, discount stores, and restaurants, to their customers to package and carry their purchased products. The scope of the order excludes (1) polyethylene bags that are not printed with logos or store names and that are closeable with drawstrings made of polyethylene film and (2) polyethylene bags that are packed in consumer packaging with printing that refers to specific end-uses other than packaging and carrying merchandise from retail establishments, e.g., garbage bags, lawn bags, trash-can liners.

As a result of changes to the Harmonized Tariff Schedule of the United States (HTSUS), imports of the subject merchandise are currently classifiable under statistical category 3923.21.0085 of the HTSUS. Furthermore, although the HTSUS subheading is provided for convenience and customs purposes, the written description of the scope of the order is dispositive.

Adverse Facts Available

As explained fully in our Preliminary Results, we find that Trinity Pac did not act to the best of its ability to comply with our request for information that is necessary for our determination.² Consequently, we are continuing to rely on adverse facts available (AFA), in accordance with sections 776(a) and (b) of the Tariff Act of 1930, and applying a rate of 122.88 percent to Trinity Pac. This rate was applied in the less-than-fair-value investigation as well as in each successive administrative review.³ Trinity Pac has not been individually examined in any of the prior segments of this proceeding. Trinity Pac provided the Department with no company-specific commercial information and no information has been presented in the current review that calls into question the relevance or reliability of this rate. Accordingly, in the Preliminary Results, we determined that, by using a rate of 122.88 percent that was corroborated in the investigation and preliminarily found to be both reliable and relevant to Trinity Pac in this review, we have corroborated the AFA rate “to the extent practicable.” ⁴ Thus, for the final results, we continue to find that an AFA rate of 122.88 percent is corroborated, pursuant to section 776(c) of the Act, and is otherwise appropriate to apply to Trinity Pac.⁵

² Id., and accompanying Preliminary Decision Memorandum at 3.

³ See Notice of Final Determination of Sales at Less Than Fair Value: Polyethylene Retail Carrier Bags From Thailand, 69 FR 34122-34124 (June 18, 2004), Polyethylene Retail Carrier Bags from Thailand: Final Results of Antidumping Duty Administrative Review, 72 FR 1982, 1983 (January 17, 2007), Polyethylene Retail Carrier Bags from Thailand: Final Results of Antidumping Duty Administrative Review and Partial Rescission of Antidumping Duty Administrative Review, 72 FR 64580 (November 16, 2007), Polyethylene Retail Carrier Bags from Thailand: Final Results and Partial Rescission of Antidumping Duty Administrative Review, 74 FR 2511, 2512 (January 15, 2009) and Polyethylene Retail Carrier Bags from Thailand: Final Results of Antidumping Duty Administrative Review, 74 FR 65751 (December 11, 2009).

⁴ See Preliminary Results, and accompanying Preliminary Decision Memorandum at 7.

⁵ Id.

Final Determination of No Shipments

Consistent with the Preliminary Results, we continue to determine that TPN had no shipments during the POR.

Rates for Respondents Not Selected for Individual Examination

As explained fully in our Preliminary Results, we are applying a rate of 4.69 percent which is taken from the Section 129 Determination for the original antidumping duty investigation,⁶ to the nine companies that were not selected for individual examination in this review.

⁶ See Notice of Implementation of Determination Under Section 129 of the Uruguay Round Agreements Act and Partial Revocation of the Antidumping Duty Order on Polyethylene Retail Carrier Bags From Thailand, 75 FR 48940 (August 12, 2010) (Section 129 Determination).

Final Results of the Review

As a result of our review, we determine that the following weighted-average dumping margins on PRCBs from Thailand exist for the period August 1, 2011, through July 31, 2012:

Company | Weighted-average dumping margin (percent)
Elite Poly and Packaging Co., Ltd. | 4.69
Multibax Public Company Limited | 4.69
PMC Innopack Co., Ltd. | 4.69
Prepack Thailand Co., Ltd | 4.69
Superpac Corporation Co. Ltd. | 4.69
Siam Best Products Trading Limited Partnership | 4.69
Two Path Plaspack Co. Ltd. | 4.69
Sun Pack Inter Co. Ltd. | 4.69
Apple Film Company, Ltd. | 4.69
Trinity Pac Co. Ltd. | 122.88

Assessment Rates

The Department will instruct U.S. Customs and Border Protection (CBP) to apply an ad valorem assessment rate of 122.88 percent to all entries of subject merchandise during the POR which were produced and/or exported by Trinity Pac.

For the companies which were not selected for individual examination and for which we did not determine that there were no shipments, we will instruct CBP to apply an ad valorem assessment rate of 4.69 rate to all entries of subject merchandise produced and/or exported by such firms.

Consistent with the Assessment Policy Notice,⁷ because TPN had no shipments of subject merchandise to the United States during the POR, we will instruct CBP to liquidate any applicable entries of subject merchandise at the all-others rate of 4.69 percent if there is no rate for the intermediate company(ies) involved in the transaction.

⁷ For a full discussion of this clarification, see Antidumping and Countervailing Duty Proceedings: Assessment of Antidumping Duties, 68 FR 23954 (May 6, 2003) (Assessment Policy Notice).

We intend to issue instructions to CBP 15 days after publication of the final results of this review.

Cash Deposit Requirements

The following deposit requirements will be effective upon publication of the notice of final results of administrative review for all shipments of PRCBs from Thailand entered, or withdrawn from warehouse, for consumption on or after the date of publication, as provided by section 751(a)(2) of the Act: (1) The cash deposit rates for the reviewed companies, with the exception of TPN FlexPac Co., Ltd., will be the weighted-average dumping margins established in the final results of this review; (2) for previously reviewed or investigated companies not listed above, the cash deposit rate will continue to be the company-specific weighted-average dumping margin published for the most recently completed segment of this proceeding; (3) if the exporter is not a firm covered in this review, a prior review, or the less-than-fair-value investigation but the manufacturer is, the cash deposit rate will be the weighted-average dumping margin established for the manufacturer of the merchandise for the most recently completed segment of this proceeding; (4) if neither the exporter nor the manufacturer has its own rate, the cash deposit rate will be 4.69 percent, the all-others rate established in Section 129 Determination. These cash deposit requirements, when imposed, shall remain in effect until further notice.

Notifications

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

The Department is issuing and publishing these final results of administrative review in accordance with sections 751(a)(1) and 777(i)(1) of the Act.

Dated: August 9, 2013.
Paul Piquado,
Assistant Secretary for Import Administration.

[FR Doc. 2013-20008 Filed 8-16-13; 8:45 am]

BILLING CODE 3510-DS-P